DEPARTMENT OF TRANSPORTATION

Office of the Secretary

Notice of Applications for Certificates of Public Convenience and Necessity and Foreign Air Carrier Permits Filed Under Subpart B (Formerly Subpart Q) During the Week Ending May 11, 2007

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: OST-2007-28180.

Date Filed: May 8, 2007.

Due Date for Answers, Conforming Applications, or Motion to Modify Scope:May 29, 2007.

Description: Joint Application of ATA Airlines, Inc. (“ATA”), North American Airlines, Inc. (“North American”) and World Airways, Inc. (“World”) requesting approval of the de facto transfer of certain international certificate and exemption authority currently held by North American and World to ATA.

Renee V. Wright,
Program Manager, Docket Operations, Federal Register Liaison.

[FR Doc. E7-9814 Filed 5-21-07; 8:45 am]

BILLING CODE 4910-9X-P